DEPARTMENT OF ENERGY

Federal Energy Regulatory Commission

[Docket Nos. RP08-591-000]

Equitrans, L.P.; Notice of Technical Conference

January 30, 2009.

Take notice that Commission Staff is rescheduling the technical conference in the above-referenced proceedings, which was previously set to take place on Wednesday, January 28, 2009, to Thursday, February 5, 2009 at 10 a.m. (EST), in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Anna Fernandez at (202) 502-6682 or e-mail Anna.Fernandez@ferc.gov.

Kimberly D. Bose,
Secretary.

[FR Doc. E9-2524 Filed 2-5-09; 8:45 am]

BILLING CODE 6717-01-P